DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Advance Monthly Retail Trade Survey.

OMB Control Number: 0607-0104.

Form Number(s): SM-44(06)A, SM-44(06)AE, SM-44(06)AS, SM-72(06)A, SM-44(06)FA, SM-44(06)FAE, SM-44(06)FAS, SM-72(06)FA.

Type of Request: Extension of a currently approved collection.

Burden Hours: 5.000.

Number of Respondents: 5,000.

Average Hours per Response: 5 minutes.

Needs and Uses: The Advance Monthly Retail Trade Survey (MARTS) covers employer firms with establishments located in the United States and classified in retail trade and/or food services sectors as defined by the North American Industry Classification System (NAICS). The MARTS was developed in response to requests by government, business, and other users to provide an early indication of current retail trade activity in the United States. MARTS also provides an estimate of monthly sales at food service establishments and drinking places. Policymakers such as the Federal Reserve Board need to have the timeliest estimates in order to anticipate economic trends and act accordingly. Results from this survey provide the earliest possible look at consumer spending and are necessary for the calculation of the personal consumption expenditures component of Gross Domestic Product (GDP). Without the MARTS, the Census Bureau's earliest measure of retail sales is the “preliminary” estimate from the full monthly sample released about 40 days after the reference month. Advance estimates are released approximately 12 days after the reference month. We intend to introduce a new MARTS sample in Spring 2013.

The U.S. Census Bureau tabulates the collected data to provide, with measured reliability, statistics on United States retail sales. These sales estimates, are used by the Council of Economic Advisers, Bureau of Economic Analysis, Federal Reserve Board, and other government agencies, as well as business users in formulating economic decisions. These estimates are especially valued by data users because of their timeliness. There would be approximately a one month delay in the availability of these statistics if this survey were not conducted.

Affected Public: Business or other for-profit.

Frequency: Monthly.

Respondent's Obligation: Voluntary.

Legal Authority: Title 13 U.S.C., Section 182.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: June 21, 2012.
Glenna Mickelson,
Management Analyst, Office of the Chief Information Officer.

[FR Doc. 2012-15525 Filed 6-25-12; 8:45 am]

BILLING CODE 3510-07-P